DEPARTMENT OF LABOR

Employment and Training Administration

Proposed Information Collection Request Submitted for Public Comment and Recommendations; Workforce Investment Act (WIA) Financial Reporting Requirements for Formula Funded Grants

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before June 14, 2004.

ADDRESSES: Send comments to Isabel Danley, Office of Grants and Contract Management, Employment and Training Administration, United States Department of Labor, 200 Constitution Avenue, NW., Room N-4720, Washington, DC 20210, 202-693-3047 (this is not a toll-free number), danley.isabel@dol.gov, and/or fax 202-693-3362.

FOR FURTHER INFORMATION CONTACT: Isabel Danley, Office of Grants and Contract Management, Employment and Training Administration, United States Department of Labor, 200 Constitution Avenue, NW., Washington, DC 20210, 202-693-3047 (this is not a toll-free number), danley.isabel@dol.gov, and/or fax 202-693-3362.

SUPPLEMENTARY INFORMATION:

I. Background

This proposed information collection notice is requesting an extension of authority to collect WIA financial data contained on formats provided to the States in ETA Training and Employment Guidance Letter No. 16-99, dated June 23, 2000. This data collection was granted an extension by OMB in Notice of Action Number 1205-0408, dated February 12, 2001. The collection of information pursuant to that notice expired on February 29, 2004; however, OMB granted an extension through May 2004. The financial reporting requirements for the WIA formula funded grants are set forth in Public Law 105-220, dated August 7, 1998, and WIA Final Rule, 20 CFR part 652, et al., dated August 11, 2000. Data collected are utilized by the Department to evaluate the performance and expenditure levels of the States and local areas in carrying out the statutory intent of the WIA appropriated funds. This is the Department's exclusive collection of financial data for WIA formula funded grants, all of which is collected electronically.

II. Desired Focus of Comments

Currently, the Department is soliciting comments concerning the proposed extension/reinstatement of the WIA Financial Reporting Requirements for Formula Funded Grants to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the ADDRESSES section of this notice.

III. Current Actions

Type of Review: Extension/Reinstatement (without change).

Agency: Employment and Training Administration.

Title: WIA Financial Reporting Requirements for Formula Funded Grants.

OMB Number: 1205-0408.

Agency Number: ETA 9076 A-F.

Affected Public: States, local governments, Private Industry Councils and/or other for profit and non-profit organizations.

Total Respondents: 56.

Frequency: Quarterly.

Total Responses: 12 per respondent per year (3 each quarter, one for each year of appropriated funds available for expenditure).

Average Time per Response: 1 hour.

PY 2003 yr. of responses | Total respondents | Frequency | Total responses | Average Time per response | Annual burden hours
PY 2001 | 56 | Quarterly | 224 | 1 hour | 224
PY 2002 | 56 | Quarterly | 224 | 1 hour | 224
PY 2003 | 56 | Quarterly | 224 | 1 hour | 224
Totals |  |  | 672 |  | 672

Comments submitted in response to this notice will be summarized and/or included in the request for Office of Management and Budget approval of the information collection request; they will also become a matter of public record.

Dated: April 6, 2004.
Emily Stover DeRocco,
Assistant Secretary for Employment and Training.

[FR Doc. 04-8302 Filed 4-12-04; 8:45 am]

BILLING CODE 4510-30-P